DEPARTMENT OF ENERGY

Federal Energy Regulatory Commission

[Docket No. IC13-7-000]

Commission Information Collection Activities (FERC-607); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection, FERC-607 (Report on Decision or Action on Request for Federal Authorization.), to the Office of Management and Budget (OMB) for review of the information collection requirements. Any interested person may file comments directly with OMB and should address a copy of those comments to the Commission as explained below. The Commission issued a Notice in the Federal Register (77 FR 76015, December 26, 2012) requesting public comments. FERC received no comments on the FERC-607 and is making this notation in its submittal to OMB.

DATES: Comments on the collection of information are due by April 15, 2013.

ADDRESSES: Comments filed with OMB, identified by the OMB Control No. 1902-0240, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-7-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-607: Report on Decision or Action on Request for Federal Authorization.

OMB Control No.: 1902-0240.

Type of Request: Three-year extension of the FERC-607 information collection requirements with no changes to the reporting requirements.

Abstract: The FERC-607 information collection requires agencies (Federal agency or officer, or State agency or officer acting pursuant to delegated Federal authority, responsible for a Federal authorization) to submit to the Commission a copy of a decision or action on a request for Federal authorization and an accompanying index to the documents and materials relied on in reaching a conclusion. The Commission authorizes the construction and operation of proposed natural gas projects under Natural Gas Act Sections 3 and 7; however, the Commission does not have jurisdiction over every aspect of each natural gas project. Hence, for a natural gas project to go forward, in addition to Commission approval, several different agencies must typically reach favorable findings regarding other aspects of the project. The Energy Policy Act of 2005 (EPAct 2005) modified FERC's role in order to better coordinate the activities of the separate agencies with varying responsibilities over proposed natural gas projects. Section 313 of EPAct 2005 ¹ directs FERC to compile a record of each agency's decision along with the record of the Commission's decision. The Commission compiles this record in order to serve as a consolidated record for the purpose of appeal or review (including judicial review).

¹ Amended 15 U.S.C. 717n (Section 15).

Type of Respondents: Government agencies responsible for issuing authorizations for proposed natural gas projects.

Estimate of Annual Burden ²: The Commission estimates the total Public Reporting Burden for this information collection as:

² Burden is defined as the total time, effort, or financial resources expended by persons to generate, maintain, retain, or disclose or provide information to or for a Federal agency. For further explanation of what is included in the information collection burden, reference 5 Code of Federal Regulations 1320.3.

FERC-607—Report on Decision or Action on Request for Federal Authorization
Number of respondents | Number of responses per respondent | Total number of responses | Average burden hours per response | Estimated total annual burden
(A) | (B) | (A) × (B) = (C) | (D) | (C) × (D)
1 | 1 | 1 | 6 | 6

The total estimated annual cost burden to respondents is $414 [6 hours ÷ 2080 hours/year ³ * $143,540/year ⁴ = $414]

³ 2080 hours = 52 weeks * 40 hours per week (i.e. 1 year of full-time employment).

⁴ Average salary plus benefits per full-time equivalent employee.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: March 11, 2013.
Kimberly D. Bose,
Secretary.

[FR Doc. 2013-06059 Filed 3-14-13; 8:45 am]

BILLING CODE 6717-01-P